DEPARTMENT OF TRANSPORTATION

Office of the Secretary

[Docket No. OST-2005-22752]

Notice of Request for Information Collection Approval

AGENCY: Office of the Secretary.

ACTION: Notice.

SUMMARY: In accordance with the Paperwork Reduction Act of 1995, (44 U.S.C. 3501 et. seq.) this notice announces the Department of Transportation's (DOT) intention to utilize 10 forms when processing Equal Employment Opportunity (EEO) discrimination complaints filed by applicants for employment with the Department.

DATES: Comments on this notice must be received by December 30, 2005.

ADDRESSES: You may submit comments [identified by DOT DMS Docket Number OST-2005-22752] by any of the following methods:

• Web Site: http://dms.dot.gov. Follow the instruction for submitting comments on the DOT electronic docket site.

• Fax: 1-202-493-2251.

• Mail: Docket Management Facility, U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking. For detailing instructions on submitting comments and additional information on the rulemaking process, see the Public Participation heading of the Supplementary Information section of this document. Note that all comments received will be posted without change to http://dms.dot.gov, including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Caffin Gordon, Chief, Compliance Operations Division, S-34, Department Office of Civil Rights, Office of the Secretary, U.S. Department of Transportation, 400 Seventh Street, SW., Wahington, DC 20590, (202) 366-9370 or (TTY) 202-366-0663.

SUPPLEMENTARY INFORMATION: Form Titles: (1) Equal Employment Opportunity Counselor Checklist; (2) ONE DOT Sharing Neutrals Program—Mediation Intake; (3) Agreement to Mediate; (4) Exit Survey for Mediation Participants; (5) Agreement to Postpone the Final Interview and to Extend the Counseling Period; (6) Notice of Right to File a Discrimination Complaint; (7) Notice of Rights and Responsibilities; (8) Individual Complaint of Employment Discrimination; (9) Designation of Representative; and (10) Final Agency Decision Request.

OMB Control Numbers: Initial Request.

Type of Request: New Collection.

Abstract: DOT will utilize ten forms to collect information necessary to process EEO discrimination complaints filed by individuals who are not Federal employees and are applicants for employment with the Department. These complaints are processed in accordance with the Equal Employment Opportunity Commission's regulations, 29 CFR part 1614, as amended. DOT will use the forms to: (a) Ensure that the DOT EEO Counselor explains to the complainant his/her rights and responsibilities; (b) communicate the complainant's request to participate in the Department's alternative resolution process; (c) document complainant's agreement to mediate; (d) complete exit survey for mediation participants; (e) document the complainant agreement to extend EEO counseling for up to an additional 60 days; (f) inform complainant of his/her right to file an EEO discrimination complaint; (g) provide the complainant with a written notice of his/her rights and responsibilities; (h) request requisite information from the applicant for processing his/her EEO employment discrimination complaint; and (i) obtain information to identify an individual or his or her attorney or other representative, if appropriate; and (j) communicate a complainant's request for a final agency decision concerning his/her complaint. An applicant's filing of an EEO employment complaint is solely voluntary. DOT estimates that it takes an applicant approximately 1.58 hours to complete all ten forms.

Respondents: Job Applicants filing EEO employment discrimination complaints.

Estimated Number of Respondents: 10 per year.

Estimated Total Burden on Respondents: 15.8 hours per year.

Comments are invited on: (a) Whether the proposed collection of information is reasonable for the proper performance of the EEO functions of the Department, and (b) the accuracy of the Department's estimate of the burden of the proposed information collection. All responses to the notice will be summarized and included in the request for Office of Management and Budget approval. All comments also will become a matter of public record.

Issued in Washington, DC on October 18, 2005.
J. Michael Trujillo,
Director, Departmental Office of Civil Rights.

[FR Doc. 05-21382 Filed 10-28-05; 8:45am]

BILLING CODE 4910-62-M